DEPARTMENT OF TRANSPORTATION

Federal Aviation Administration

[Policy Statement No. ANM112-05-001]

Process for Developing Instructions for Maintenance and Inspection of Fuel Tank Systems Required by SFAR 88

AGENCY: Federal Aviation Administration (FAA), DOT.

ACTION: Notice of final policy.

SUMMARY: The Federal Aviation Administration (FAA) announces the availability of final policy on the process used by design approval holders to develop instructions for maintenance and inspection of the fuel tank systems of certain transport category airplanes, as required by Special Federal Aviation Regulation Number 88 (SFAR 88).

DATES: This final policy was issued by the Transport Airplane Directorate on October 6, 2004.

FOR FURTHER INFORMATION CONTACT: Michael Collins, Federal Aviation Administration, Transport Airplane Directorate, Transport Standards Staff, Safety Management Branch, ANM-112, 1601 Lind Avenue SW., Renton, WA 98055-4056; telephone (425) 227-2689; fax (425) 227-1149; e-mail: michael.collins@faa.gov.

SUPPLEMENTARY INFORMATION:

Disposition of Comments

A notice of proposed policy was published in the Federal Register on May 28, 2004 as Policy Statement No. PS-AMN100-04-10029. Seven commenters responded to the request for comments.

Background

This policy provides guidance for complying with the requirements in Special Federal Aviation Regulation Number 88 (SFAR 88) for the preparation of instructions for maintenance and inspection of fuel tank systems in certain transport category airplanes. Paragraph 2(a) of SFAR 88 requires certain holders of Type Certificates (TCs) and Supplemental Type Certificates (STCs) of large transport airplanes to conduct a safety review of the fuel tank systems. The purpose of the safety review is to identify design features which may provide ignition sources in the fuel tank systems. Corrective actions, such as design changes, operational procedures, or maintenance may be necessary to eliminate those ignition sources.

The policy relates to Paragraphs 2(b) and 2(c)(2) of SFAR 88 which require that, based upon the safety review, the TC and STC holders develop instructions for maintenance and inspection of the fuel tank systems in order to maintain design features which preclude the existence or the development of an ignition source. The FAA intends that operators use those instructions to propose changes in their maintenance programs in order to maintain those design features for the operational life of the airplane.

The final policy is available on the Internet at the following address: http://www.airweb.faa.gov/rgl. If you do not have access to the Internet, you can obtain a copy of the policy by contacting the person listed under FOR FURTHER INFORMATION CONTACT.

Issued in Renton, Washington, on October 6, 2004.
Kalene C. Yanamura,
Acting Manager, Transport Airplane Directorate, Aircraft Certification Service.

[FR Doc. 04-23069 Filed 10-13-04; 8:45 am]

BILLING CODE 4910-13-P